DEPARTMENT OF TRANSPORTATION

Federal Highway Administration

Notice of Final Federal Agency Actions on Proposed Highway in California

AGENCY: Federal Highway Administration (FHWA), DOT.

ACTION: Notice of Limitation on Claims for Judicial Review of Actions by the California Department of Transportation (Caltrans), pursuant to 23 U.S.C. 327, and U.S. Army Corps of Engineers, U.S. Fish and Wildlife Service, National Park Service, and National Oceanic Atmospheric Administration National Marine Fisheries Service.

SUMMARY: The FHWA, on behalf of Caltrans, is issuing this notice to announce actions taken by Caltrans, and U.S. Army Corps of Engineers, U.S. Fish and Wildlife Service, National Park Service, and National Oceanic Atmospheric Administration National Marine Fisheries Service that are final. The actions relate to a proposed highway project, U.S. Route 101 from Post Mile 1.1 to Post Mile 2.2 in the County of Humboldt, State of California. Those actions grant licenses, permits, and approvals for the project.

DATES: By this notice, the FHWA, on behalf of Caltrans, is advising the public of final agency actions subject to 23 U.S.C. 139(l)(1). A claim seeking judicial review of the Federal agency actions on the highway project will be barred unless the claim is filed on or before November 2, 2017. If the Federal law that authorizes judicial review of a claim provides a time period of less than 150 days for filing such claim, then that shorter time period still applies.

FOR FURTHER INFORMATION CONTACT: For Caltrans: Sandra Rosas, Environmental Branch Chief, California Department of Transportation, 1656 Union Street, Eureka, CA 95501; or call (707) 441-5730, email Sandra.Rosas@dot.ca.gov.

For U.S. Army Corps of Engineers: Janelle D. Leeson, Senior Regulatory Project Manager/Caltrans Liaison, U.S. Army Corps of Engineers, 1455 Market Street, 16th Floor, San Francisco, CA 94103 or call (415) 503-6773, email Janelle.D.Leeson@usace.army.mil.

For U.S. Fish and Wildlife Service: Bruce Bingham, Field Supervisor, Fish and Wildlife Endangered Species Program, U.S. Fish and Wildlife Service, 1655 Heindon Road, Arcata, California 95521; or call (707) 822-7201, email Bruce_Bingham@fws.gov.

For National Park Service: Stephen Bowes, CA Wild and Scenic Rivers Coordinator National Park Service, 1111 Jackson Street, Suite 700, Oakland, CA 94607; or call (510) 817-1451, email stephen_bowes@nps.gov.

For National Oceanic Atmospheric Administration National Marine Fisheries: Jeffrey Jahn, Supervisory Fish Biologist—South Coast Branch, National Oceanic Atmospheric Administration National Marine Fisheries Service, 1655 Heindon Road, Arcata, CA 95521; or call (707) 825-5173, email Jeffrey.Jahn@noaa.gov.

For the California Department of Parks and Recreation: Jay Harris, Senior Environmental Scientist, California State Parks, North Coast Redwoods District, P.O. Box 2006, Eureka, CA 95502; or call (707) 445-6547 ext. 19, email Jay.Harris@parks.ca.gov.

SUPPLEMENTARY INFORMATION: Effective July 1, 2007, the Federal Highway Administration (FHWA) assigned, and the California Department of Transportation (Caltrans) assumed, environmental responsibilities for this project pursuant to 23 U.S.C. 327. Notice is hereby given that the Caltrans, and U.S. Army Corps of Engineers, U.S. Fish and Wildlife Service, National Park Service, and National Oceanic Atmospheric Administration National Marine Fisheries Service have taken final agency actions subject to 23 U.S.C. 139(l)(1) by issuing licenses, permits, and approvals for the following highway project in the State of California: The proposed project is located on U.S. Route 101 in southern Humboldt County. The primary purpose of the proposed project is to modify the roadway alignment to accommodate Surface Transportation Assistance Act (STAA) truck travel on U.S. Route 101 in Humboldt County, California. The project includes minor realignment, minor widening, culvert improvements, construction of a retaining wall, and repaving the roadway. The actions by the Federal agencies, and the laws under which such actions were taken, are described in the Final Environmental Assessment (EA) for the project approved on May 18, 2010, the Supplement to the Final Environmental Assessment (Supplement) approved on September 18, 2013, in the Finding of No Significant Impact (FONSI) issued on May 1, 2017, and in other documents in Caltrans project records. The EA, Supplement, FONSI, and other project records are available by contacting Caltrans at the addresses provided above. The Caltrans EA, Supplement, and FONSI can be viewed and downloaded from the project Web site at dot.ca.gov/dist1/d1projects/richardson_grove/.

The U.S. Army Corp of Engineers decision and Nation Wide Permit are available by contacting the U.S. Army Corp of Engineers at the address provided above.

The U.S. Fish and Wildlife Service consultations and Letter of Concurrence are available by contacting the U.S. Fish and Wildlife Service at the address provided above.

The U.S. National Park Service National Scenic River consultation is available by contacting the National Park Service at the address provided above.

The U.S. NOAA National Marine Fisheries consultation and Letter of Concurrence are available by contacting U.S. N.O.A.A National Marine Fisheries at the address provided above.

The Section 4(f) consultation and Letter of Concurrence are available by contacting the California Department of Parks and Recreation at the address provided above.

This notice applies to all Federal agency decisions as of the issuance date of this notice and all laws under which such actions were taken, including but not limited to:

1. National Environmental Policy Act (NEPA) [42 U.S.C. 4321-4351]

2. Federal Aid Highway Act; [23 U.S. C109]

3. Air: Clean Air Act 42 U.S.C. 7401-7671(q)

4. Migratory Bird Treaty Act [16 U.S.C. 703-712]

5. Historic and Cultural Resources: Section 106 of the National Historic Preservation Act of 1966, as amended [16 U.S.C. 470(aa)-11]

6. Hazardous Materials: Comprehensive Environmental response, Compensation, and Liability Act (CERCLA), 42 U.S.C. 9601-9675

7. Executive Orders: E.O. 11990 Protection of Wetlands; E.O. 13112 Invasive Species

8. Wild and Scenic Rivers 16 U.S.C. 1271-1287

9. Endangered Species Act 16 U.S.C. 1531-1543

10. Clean Water Act 33 U.S.C. 1251-1376

11. Section 4(f) of the Department of Transportation Act of 1966 (49 U.S.C. 303)

(Catalog of Federal Domestic Assistance Program Number 20.205, Highway Planning and Construction. The regulations implementing Executive Order 12372 regarding intergovernmental consultation on Federal programs and activities apply to this program.)

Authority: 23 U.S.C. 139(l)(1)

Larry Vinzant,
Senior Environmental Specialist, Federal Highway Administration, Sacramento, California.

[FR Doc. 2017-11528 Filed 6-2-17; 8:45 am]

BILLING CODE 4910-RY-P